DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 31, 2008.

Interested persons are invited to submit written comments regarding the subject matter of the investigations to the Director, Division of Trade Adjustment Assistance, at the address shown below, not later than March 31, 2008.

The petitions filed in this case are available for inspection at the Office of the Director, Division of Trade Adjustment Assistance, Employment and Training Administration, U.S. Department of Labor, Room C-5311, 200 Constitution Avenue, NW., Washington, DC 20210.

Signed at Washington, DC, this 12th day of March 2008.
Ralph DiBattista,
Director, Division of Trade Adjustment Assistance.

APPENDIX—.48 TAA Petitions Instituted Between 3/3/08 and 3/7/08
TA-W | Subject firm (Petitioners) | Location | Date of institution | Date of petition
62928 | SAS Shoemakers (State) | Pittsfield, ME | 03/03/08 | 02/15/08
62929 | EMS Springhill—Delphi Plant (Comp) | Columbia, TN | 03/03/08 | 02/20/08
62930 | ACE Style Intimate Apparel, Inc. (Wkrs) | New York, NY | 03/03/08 | 02/19/08
62931 | Laser Tek Industries, Inc. (Comp) | Richmond, IL | 03/03/08 | 02/29/08
62932 | Keeper Corporation (State) | North Windham, CT | 03/03/08 | 02/28/08
62933 | Gordon Garment (Comp) | Bristol, VA | 03/03/08 | 02/28/08
62934 | Steel Craft Industries, LLC (Comp) | Miami, OK | 03/03/08 | 02/29/08
62935 | WestPoint Home, Inc. (Comp) | Biddeford, ME | 03/03/08 | 02/29/08
62936 | Bradford Dyeing Association, Inc. (Comp) | Bradford, RI | 03/03/08 | 02/28/08
62937 | Fulflex Elastomerics Worldwide (Comp) | Greeneville, TN | 03/03/08 | 02/28/08
62938 | Alcatel-Lucent (Comp) | North Andover, MA | 03/03/08 | 02/28/08
62939 | Johnson Rubber Company (Union) | North Baltimore, OH | 03/03/08 | 03/01/08
62940 | Two Star Dog, Inc. (State) | Berkeley, CA | 03/04/08 | 02/05/08
62941 | PMI/Diversco (State) | Duluth, GA | 03/04/08 | 03/03/08
62942 | Hi Specialty America (Comp) | Irwin, PA | 03/04/08 | 02/29/08
62943 | Bekaert Corporation (IUECWA) | Rome, GA | 03/04/08 | 02/27/08
62944 | Trius Products, LLC (Comp) | Cleves, OH | 03/04/08 | 03/03/08
62945 | Federal Mogul (IBEW) | Boyertown, PA | 03/04/08 | 03/03/08
62946 | Plaster Group/Pioneer Tool and Mold (16505) | Erie, PA | 03/04/08 | 02/03/08
62947 | Norcal Pottery (Comp) | Richmond, CA | 03/04/08 | 02/27/08
62948 | Superior Studs and Glide Stud Mill (Wkrs) | Roseburg, OR | 03/04/08 | 02/25/08
62949 | Freescale Semiconductor, Inc. (Wkrs) | Tempe, AZ | 03/04/08 | 02/27/08
62950 | Key Plastics (Wkrs) | York, PA | 03/04/08 | 03/03/08
62951 | Best King Fashions, Inc. (Wkrs) | New York, NY | 03/05/08 | 01/22/08
62952 | Newpage Corporation (Comp) | Niagara, WI | 03/05/08 | 03/03/08
62953 | Sensata Technologies (formerly Airpax) (State) | Frederick, MD | 03/05/08 | 03/03/08
62954 | Fiesta Gas Grills, LLC (Wkrs) | Dickson, TN | 03/05/08 | 02/22/08
62955 | Pitney Bowes (State) | Danbury, CT | 03/05/08 | 03/04/08
62956 | General Mills, Inc. (Comp) | Poplar, WI | 03/05/08 | 03/03/08
62957 | Lear Corporation (Comp) | Louisville, KY | 03/05/08 | 02/28/08
62958 | Auburn Hosiery Mills, Inc. (Comp) | Auburn, KY | 03/05/08 | 02/28/08
62959 | O'Sullivan Films, Inc. (Comp) | Lebanon, PA | 03/05/08 | 03/04/08
62960 | Russell Corporation (Comp) | Sussex, WI | 03/05/08 | 03/05/08
62961 | Dura Automotive Systems, Inc. (Comp) | Moberly, MO | 03/05/08 | 02/27/08
62962 | Copeland Corporation (Rep) | Shelby, NC | 03/06/08 | 02/28/08
62963 | Lexington Rubber Group/Lexington Inc. (IUECWA) | Vienna, OH | 03/06/08 | 03/04/08
62964 | Starlo Fashions/G-III Fashions (Comp) | New York, NY | 03/06/08 | 02/19/08
62965 | K-Ply, Inc. (IAMAW) | Port Angeles, WA | 03/06/08 | 03/03/08
62966 | Sanmina-Sci, Inc. (Comp) | Rapid City, SD | 03/06/08 | 02/27/08
62967 | Riverside Manufacturing Company (State) | Wadley, GA | 03/06/08 | 03/05/08
62968 | The Longaberger Company (Wkrs) | Newark, OH | 03/06/08 | 03/02/08
62969 | Tyco Electronics (Comp) | Rochester, NY | 03/07/08 | 02/29/08
62970 | Maine Moccasin (State) | Lewiston, ME | 03/07/08 | 03/05/08
62971 | Southern Furniture, Inc. (Comp) | Conover, NC | 03/07/08 | 03/04/08
62972 | Edwards Vacuum, Inc. (Rep) | Tempe, AZ | 03/07/08 | 03/03/08
62973 | Griffin Manufacturing (Comp) | Fall River, MA | 03/07/08 | 03/05/08
62974 | Legget and Platt, Inc. (Wkrs) | Ferndale, MI | 03/07/08 | 02/15/08
62975 | Catherine Coatney Design (Wkrs) | San Francisco, CA | 03/07/08 | 03/06/08

[FR Doc. E8-5726 Filed 3-20-08; 8:45 am]

BILLING CODE 4510-FN-P